DEPARTMENT OF DEFENSE

Department of the Navy

Notice of Intent To Prepare an Environmental Impact Statement (EIS) for Proposed Dredging of the Norfolk Harbor Channel, Norfolk and Portsmouth, Virginia and To Announce Public Scoping Meetings

AGENCY: Department of the Navy, DoD.

ACTION: Notice.

SUMMARY: Pursuant to Section 102(2)(c) of the National Environmental Policy Act of 1969, as implemented by the Council on Environmental Quality regulations (40 CFR parts 1500-1508), the Department of the Navy (DoN) announces its intent to prepare an EIS to evaluate the potential environmental impacts associated with the dredging of 4.8 miles of Norfolk Harbor Channel in the Elizabeth River. The proposed channel deepening project is located in the Federal navigation channel in Norfolk and Portsmouth, Virginia. Discussions are underway with the United States Army Corps of Engineers (USACE) to be a cooperating agency in the preparation of the EIS. The EIS will consider reasonable alternatives to the proposed action, including the No Action Alternative.

DATES: Public scoping meetings will be held in Norfolk, Virginia and Portsmouth, Virginia, to receive oral and/or written comments on environmental concerns that should be addressed in the EIS. The public scoping meetings will be held on:

1. Wednesday, October 4, 2006, 3 p.m.-8 p.m., Hilton Norfolk Airport, 1500 North Military Highway, Norfolk, Virginia.

2. Thursday, October 5, 2006, 3-8 p.m., Renaissance Portsmouth Hotel & Waterfront Conference Center, 425 Water Street, Portsmouth, Virginia.

FOR FURTHER INFORMATION CONTACT: Mr. John Conway, Environmental Planning Section, Naval Facilities Engineering Command (NAVFAC) Atlantic, 6506 Hampton Boulevard, Norfolk, Virginia 23508-1278; telephone 757-322-4761 or fax 757-594-1469.

SUPPLEMENTARY INFORMATION: The proposed action is to deepen approximately 4.8 miles of the Norfolk Harbor Channel located in the southern branch of the Elizabeth River in southeastern Virginia. The project in the Federal navigation channel will extend from the vicinity of Lambert's Bend into Middle Reach to a point just north of the confluence of Paradise Creek and the Elizabeth River at the entrance of the Norfolk Naval Shipyard (NNSY). The proposed deepening will provide CVN class carriers with safe and unrestricted access to the Deperming Station and NNSY. The project will dredge the Federal navigation channel in the vicinity of the Lambert's Point Deperming Station to a depth of 50 feet below mean low low water (MLLW) plus an additional one feet of allowable over dredge. The remainder of the Federal navigation channel will be dredged to a depth of 47 feet MLLW with an additional one feet of allowable overdredge. The proposed deepening will generate approximately 5.4 million cubic yards of dredged material. It is anticipated that this dredged material will be placed at the USACE's regional dredged material disposal site on Craney Island in Portsmouth, Virginia.

Current Federal navigation channel depths impede access/egress to the deperming station and there have been numerous incidents of fouling and clogging of cooling systems of the CVN carriers while in transit in the channel. The project is required in order to bring the Federal navigation channel in compliance with DoN requirements for water depth beneath the keel, for both operational and “dead stick” (towing) transits of CVN 68 and non-CVN 68 Class carriers. Adequate channel depths are needed for the safe and efficient transit of CVN Class Aircrafeet Carriers to maintain fleet readiness. The current condition of the Norfolk Harbor Channel is not acceptable and prevents full operational capability and CVN access to Lambert's Point Deperming Station and NNSY.

The Norfolk Harbor Channel is the only means of CVN access to the deperming station and NNSY. Only alternatives that will satisfy the required channel depths for CVN transits are considered by the Navy to be reasonable. In addition to the proposed deepening program, Navy is considering an alternative involving a combination of partial channel dredging and operational restrictions based on tidal activity. Under this alternative approach, the Federal navigation channel would be dredged to 45 feet below MLLW, and 2.5 feet tidal fluctuations would be used to provide the remaining depth required for adequate keel clearance. It should be noted that this alternative would continue to impose limitations on the operational capability and readiness of the CVN fleet. A No Action Alternative will also be evaluated in the EIS.

The EIS will address the potential environmental impacts of the proposed action and its alternatives, including the No Action Alternative. Key environmental issues that will be addressed in the EIS include marine biological resources including Essential Fish Habitat, fisheries, marine mammals, invertebrates, and threatened and endangered species; water quality; cultural resources; human health and safety; and socioeconomics and land use (i.e., commercial, private, and recreational uses of the marine environment); and cumulative impacts.

The Navy is initiating this scoping process to identify community concerns and issues that should be addressed in the EIS. Federal, State, and local agencies, the public, and interested parties are encouraged to provide comments to DoN that clearly describe specific issues or topics of environmental concern that the commenter believes the DoN should consider. All comments, written or provided orally at the scoping meetings, will receive the same attention and consideration during EIS preparation.

Written comments on the scope of the EIS should be postmarked no later than Thursday, October 19, 2006. These comments may be mailed or faxed to: Mr. John Conway, Environmental Planning Section, NAVFAC Atlantic, 6506 Hampton Boulevard, Norfolk, Virginia 23508-1278, telephone 757-322-4761, or fax 757-594-1469.

Dated: August 10, 2006.
M.A. Harvison,
Lieutenant Commander, Judge Advocate General's Corps, U.S. Navy, Federal Register Liaison Officer.

[FR Doc. E6-15509 Filed 9-18-06; 8:45 am]

BILLING CODE 3810-FF-P